DEPARTMENT OF THE INTERIOR

National Park Service

[NPS-WASO-NAGPRA-21818; PPWOCRADN0-PCU00RP14.R50000]

Notice of Intent To Repatriate Cultural Items: Washington State Parks and Recreation Commission, Olympia, WA

AGENCY: National Park Service, Interior.

ACTION: Notice.

SUMMARY: The Washington State Parks and Recreation Commission (hereafter State Parks), in consultation with the appropriate Indian tribes or Native Hawaiian organizations, has determined that the cultural items listed in this notice meet the definition of sacred objects. Lineal descendants or representatives of any Indian tribe or Native Hawaiian organization not identified in this notice that wish to claim these cultural items should submit a written request to the State Parks. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the State Parks at the address in this notice by October 17, 2016.

ADDRESSES: Alicia Woods, Washington State Parks and Recreation Commission, P.O. Box 42650, Olympia, WA 98504-2650, telephone (360) 902-0939, email Alicia.Woods@parks.wa.gov.

SUPPLEMENTARY INFORMATION: Notice is here given in accordance with the Native American Graves Protection and Repatriation Act (NAGPRA), 25 U.S.C. 3005, of the intent to repatriate cultural items under the control of the State Parks that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 2004 and 2006, six sacred objects were removed from the Cama Beach Shell Midden (45-IS-2) in Island County, WA. State Parks contracted Cascadia Archaeology to perform excavation and data recovery of site 45-IS-2 for the purposes of upgrading sewer and utility lines. Historically the site is a 1930s-1980s fishing and vacation resort, with cabins for visitors and housing for owners and management, most of which still stand. During excavation and data recovery it was determined the site's prehistoric use was as a seasonal Native American fishing site. Both prehistoric and historic material was recovered from the site. Among the material were 3 complete and 3 fragmentary, culturally modified (perforated) Weathervane scallop shells.

According to research, the scallop shells were incorporated into a rattle that would have been one of the cleansing devices used by a dancer in a ceremony of ritual purification during times of change or crisis. The rattles were passed down through families. The rattles are also known to have been used in cleansing ceremonies by shamans. Once identified, the objects remained in Cascadia Archaeology's custody until the overall collection of site material was transferred to the State Parks in 2009.

Camano Island is located in Puget Sound between Whidbey Island and mainland Washington State; the Cama Beach Shell Midden site is on the western shores of the island. Saratoga Passage is a waterway between the two islands. Along Saratoga Passage, the shores of both islands are rich in prehistoric Native American seasonal resources sites.

Historical and anthropological sources indicate that the Kikiallus, Swinomish, Lower Skagit and Stillaguamish peoples occupied and had village sites in the Penn Cove area of Whidbey Island and on the northwestern shore of Camano Island. The Snohomish people (a predecessor group to, and represented by, the Tulalip Tribes of Washington) had a permanent village at the southernmost end of the island.

Through kinship ties and alliances and by invitation the Kikiallus, Upper Skagit, Lower Skagit, Snohomish, Stillaguamish, Snohomish, and Swinomish peoples utilized the waterways, resource grounds, and the beaches of Camano and Whidbey Islands. These peoples shared the same language, and maintained similar economic traditions, social and ceremonial customs, as well as trade and defense alliances.

Based on historical and anthropological sources, State Parks staff has determined these sacred objects are culturally affiliated with the Stillaguamish Tribe of Indians of Washington (previously listed as the Stillaguamish Tribe of Washington); the Swinomish Indian Tribal Community (previously listed as the Swinomish Indians of the Swinomish Reservation of Washington); the Tulalip Tribes of Washington (previously listed as the Tulalip Tribes of the Tulalip Reservation, Washington); and the Upper Skagit Indian Tribe.

Determinations Made by the Washington State Parks and Recreation Commission

Officials of the State Parks have determined that:

• Pursuant to 25 U.S.C. 3001(3)(C), the 6 cultural items described above are specific ceremonial objects needed by traditional Native American religious leaders for the practice of traditional Native American religions by their present-day adherents.

• Pursuant to 25 U.S.C. 3001(2), there is a relationship of shared group identity that can be reasonably traced between the sacred objects and the Stillaguamish Tribe of Indians of Washington (previously listed as the Stillaguamish Tribe of Washington); the Swinomish Indian Tribal Community (previously listed as the Swinomish Indians of the Swinomish Reservation of Washington); the Tulalip Tribes of Washington (previously listed as the Tulalip Tribes of the Tulalip Reservation, Washington); and the Upper Skagit Indian Tribe.

Additional Requestors and Disposition

Lineal descendants or representatives of any Indian tribe or Native Hawaiian organization not identified in this notice that wish to claim these cultural items should submit a written request with information in support of the claim to Alicia Woods, Washington State Parks and Recreation Commission, PO Box 42650, Olympia, WA 98504-2650, telephone (360) 902-0939, email Alicia.Woods@parks.wa.gov, by October 17, 2016. After that date, if no additional claimants have come forward, transfer of control of the sacred objects to the Stillaguamish Tribe of Indians of Washington (previously listed as the Stillaguamish Tribe of Washington); the Swinomish Indian Tribal Community (previously listed as the Swinomish Indians of the Swinomish Reservation of Washington); the Tulalip Tribes of Washington (previously listed as the Tulalip Tribes of the Tulalip Reservation, Washington); and the Upper Skagit Indian Tribe, may proceed.

The State Parks is responsible for notifying the Stillaguamish Tribe of Indians of Washington (previously listed as the Stillaguamish Tribe of Washington); the Swinomish Indian Tribal Community (previously listed as the Swinomish Indians of the Swinomish Reservation of Washington); the Tulalip Tribes of Washington (previously listed as the Tulalip Tribes of the Tulalip Reservation, Washington); and the Upper Skagit Indian Tribe, that this notice has been published.

Dated: August 23, 2016.
Melanie O'Brien,
Manager, National NAGPRA Program.

[FR Doc. 2016-22314 Filed 9-15-16; 8:45 am]

BILLING CODE 4312-50-P